DEPARTMENT OF LABOR

Employment and Training Administration

[TA-W-42,361]

P.C. Cutting & Apparel, Hialeah, FL; Notice of Termination of Investigation

Pursuant to section 221 of the Trade Act of 1974, an investigation was initiated on April 10, 2003, in response to a petition filed on behalf of workers at P.C. Cutting & Apparel, Hialeah, Florida.

The petition regarding the investigation has been deemed invalid. The three petitioners are in separately identifiable worker groups within the departments at the subject firm. Consequently, further investigation in this case would serve no purpose, and the investigation has been terminated.

Signed in Washington, DC, this 16th day of May, 2003.
Linda G. Poole,
Certifying Officer, Division of Trade Adjustment Assistance.

[FR Doc. 03-13809 Filed 6-2-03; 8:45 am]

BILLING CODE 4510-30-P